FEDERAL MINE SAFETY AND HEALTH REVIEW COMMISSION

Sunshine Act Notice

TIME AND DATE: 10:00 a.m., Wednesday, September 18, 2019.

PLACE: The Richard V. Backley Hearing Room, Room 511N, 1331 Pennsylvania Avenue NW, Washington, DC 20004 (enter from F Street entrance).

STATUS: Open.

MATTERS TO BE CONSIDERED: The Commission will hear oral argument in the matter Thomas v. CalPortland Co., Docket No. WEST 2018-402-DM. (Issues include whether the Judge erred in concluding that the operator discriminated against the miner because of his safety complaints.)

Any person attending this oral argument who requires special accessibility features and/or auxiliary aids, such as sign language interpreters, must inform the Commission in advance of those needs. Subject to 29 CFR 2706.150(a)(3) and 2706.160(d).

CONTACT PERSON FOR MORE INFO: Emogene Johnson (202) 434-9935/(202) 708-9300 for TDD Relay/1-800-877-8339 for toll free.

PHONE NUMBER FOR LISTENING TO MEETING: 1-(866) 867-4769; Passcode: 678-100.

Authority: 5 U.S.C. 552b.

Dated: September 5, 2019.
Sarah L. Stewart,
Deputy General Counsel.

[FR Doc. 2019-19555 Filed 9-5-19; 4:15 pm]

BILLING CODE 6735-01-P